DEPARTMENT OF ENERGY

Federal Energy Regulatory Commission

[Docket No. EG05-57-000, et al.]

Bellows Falls Power Company, LLC, et al.; Electric Rate and Corporate Filings

April 7, 2005.

The following filings have been made with the Commission. The filings are listed in ascending order within each docket classification.

1. Bellows Falls Power Company, LLC

[Docket No. EG05-57-000]

Take notice that on April 4, 2005, Bellows Falls Power Company, LLC (BFPC) filed an application for a determination of exempt wholesale generator status pursuant to section 32(a)(1) of the Public Utility Holding Company Act of 1935, as amended, 15 U.S.C. 79z-5a, and Part 365 of the Commission's Regulations, 18 CFR Part 365. BFPC states that it is a Delaware limited liability company that will lease and operate the Bellows Falls Hydroelectric Project from the Town of Rockingham, Vermont.

Comment Date: 5 p.m. Eastern Standard Time on April 25, 2005.

2. San Diego Gas & Electric Company, Complainants v. Sellers of Energy and Ancillary Services Into Markets Operated by the California Independent System Operator and the California Power Exchange, Respondents; Investigation of Practices of the California Independent System Operator and the California Power Exchange

[Docket Nos. EL00-95-127 and EL00-98-114]

On March 21, 2005, the City of Los Angeles Department of Water and Power (LADWP) submitted its compliance filing containing recalculations of emission cost offsets to be included in the financial reruns of the California Independent System Operator Corporation, pursuant to the Commission's Order issued November 23, 2004 in Docket Nos. EL00-95-100 and EL00-98-088, 109 FERC ¶ 61,218 (2004).

Comment Date: 5 p.m. Eastern Time on April 14, 2005.

3. The Empire District Electric Company

[Docket No. ER99-1757-008]

Take notice that on March 31, 2005, The Empire District Electric Company (Empire) submitted a compliance filing, pursuant to the Commission's order issued March 3, 2005 in Docket No. ER99-1757-002, 110 FERC ¶ 61,214 (2005).

Empire states that copies of the filing have been served on all parties on the official service list in this proceeding.

Comment Date: 5 p.m. Eastern Time on April 21, 2005.

4. Indeck-Oswego Limited Partnership

[Docket No. ER02-1081-002]

Take notice that on April 1, 2005, Indeck-Oswego Limited Partnership (Indeck Oswego) submitted an updated market power analysis and an amendment to its market-based rate tariff to incorporate the reporting requirements adopted by the Commission in Order No. 652, Reporting Requirements for Changes in Status for Public Utilities with Market-Based Rate Authority, 110 FERC ¶ 61,097 (2005).

Comment Date: 5 p.m. Eastern Time on April 22, 2005.

5. Cobb Electric Membership Corp.

[Docket No. ER01-1860-002]

Take notice that on April 1, 2005, Cobb Electric Membership Corp. (Cobb) submitted an amendment to its Triennial Updated Market Analysis originally filed on July 12, 2004 in Docket No. ER01-1860-001. In addition, Cobb submitted revised tariff sheets incorporating the market behavior rules adopted by the Commission in Investigation of Terms and Conditions of Public Utility Market-Based Rate Authorizations, 105 FERC ¶ 61,218 (2003). Cobb's revised tariff sheets also incorporate the reporting requirements adopted by the Commission in Order No. 652, Reporting Requirements for Changes in Status for Public Utilities with Market-Based Rate Authority, 110 FERC ¶ 61,097 (2005) and includes language indicating that Cobb will not make any sales to affiliates without prior Commission authorization pursuant to section 205 of the Federal Power Act.

Comment Date: 5 p.m. Eastern Time on April 22, 2005.

6. Marina Energy, L.L.C.

[Docket No. ER03-715-002]

Take notice that on April 1, 2005, Marina Energy, L.L.C. submitted an amendment to its market-based rate tariff to incorporate the market behavior rules adopted by the Commission in Investigation of Terms and Conditions of Public Utility Market-Based Rate Authorizations, 105 FERC ¶ 61,218 (2003) and to incorporate the reporting requirements adopted by the Commission in Order No. 652, Reporting Requirements for Changes in Status for Public Utilities with Market-Based Rate Authority, 110 FERC ¶ 61,097 (2005).

Comment Date: 5 p.m. Eastern Time on April 22, 2005.

7. New York Independent System Operator, Inc.

[Docket No. ER04-1138-002]

Take notice that on April 1, 2005, the New York Independent System Operator, Inc. (NYISO) filed a compliance filing pursuant to the Commission's letter order issued March 9, 2005 in Docket No. ER04-1138-001.

Comment Date: 5 p.m. Eastern Time on April 22, 2005.

8. North American Electric Reliability Council

[Docket No. ER05-580-001]

Take notice that on April 1, 2005, the North American Electric Reliability Council submitted a compliance filing pursuant to the Commission's order issued March 30, 2005 in Docket No. ER05-580-000, 110 FERC ¶ 61,388 (2005).

Comment Date: 5 p.m. Eastern Time on April 22, 2005.

9. San Joaquin Cogen, L.L.C.

[Docket No. ER05-698-001]

Take notice that on April 1, 2005, San Joaquin Cogen, L.L.C. (San Joaquin) filed revisions to sections 6 and 10 of the proposed market-based rate tariff sheets initially filed in Docket No. ER05-698-000 on March 11, 2005. San Joaquin requests an effective date of April 15, 2005.

Comment Date: 5 p.m. Eastern Time on April 14, 2005.

10. ISO New England Inc.

[Docket No. ER05-762-000]

Take notice that on April 1, 2005, ISO New England Inc. (the ISO) submitted revised tariff sheets for its Transmission, Markets and Services Tariff, FERC Electric Tariff No. 3 (ISO Tariff). The ISO states that its filing seeks to conform its financial assurance policies (Exhibits IA and IC to Section I of the ISO Tariff) and its Market Rule 1 (Section III of the ISO Tariff) to the provisions filed by the New England Power Pool (NEPOOL) Participants Committee in Docket Nos. ER05-361-000 and ER05-403-000 and accepted by the Commission on February 10, 2005 in ISO New England Inc., 110 FERC ¶ 61,111 (2005) and by letter order issued on February 22, 2005 in New England Power Pool, 110 FERC ¶ 61,180 (2005).

The ISO states that paper copies of the filing were sent to the New England state governors and regulatory agencies, and electronic copies were sent to the ISO's Governance Participants.

Comment Date: 5 p.m. Eastern Time on April 22, 2005.

11. Southern California Edison Company

[Docket No. ER05-763-000]

Take notice that on April 1, 2005, Southern California Edison Company (SCE) submitted proposed revisions to SCE's Transmission Owner Tariff, Second Revised Volume No. 6, Appendix VI, to reflect the incurrence by SCE of reliability services costs associated with the California Independent System Operator's M-438 Operating Procedure through contractual means.

Comment Date: 5 p.m. Eastern Time on April 22, 2005.

12. Montana Alberta Tie Ltd.

[Docket No. ER05-764-000]

Take notice that on April 1, 2005, Montana Alberta Tie Ltd. (MATL) filed an application for authority to sell transmission rights at market-based rates. MATL states that is proposes to develop a 230kV AC power transmission line running from Lethbridge, Alberta, Canada to Great Falls, Montana. MATL requests certain limited waivers of the Commission's regulations.

MATL states that the filing has been served on the Alberta Electric System Operator, Alberta Energy and Utilities Board, National Energy Board, NorthWestern Energy and regulators in the State of Montana. MATL also states that the filing has been posted on its Web site at http://www.matl.ca.

Comment Date: 5 p.m. Eastern Time on April 22, 2005.

13. New England Power Pool

[Docket No. ER05-765-000]

Take notice that on April 1, 2005, the New England Power Pool (NEPOOL) Participants Committee filed for acceptance materials to permit NEPOOL (1) to expand its membership in include Dennis Beverage Company Inc. (Dennis Beverage), Dennis Energy Company (Dennis Energy) and LP&T Energy LLC (LP&T); and (2) to terminate the membership of Entergy-Koch Trading, LP (Entergy-Koch). The Participants Committee requests an effective date of April 1, 2005 for the NEPOOL membership of Dennis Beverage, Dennis Energy and LP&T Energy and a March 1, 2005 effective date for the termination of Entergy-Koch.

The Participants Committee states that copies of the filing were sent to the New England state governors and regulatory commissions and the participants in NEPOOL.

Comment Date: 5 p.m. Eastern Time on April 22, 2005.

14. Soyland Power Cooperative, Inc.

[Docket No. ER05-766-000]

Take notice that on April 1, 2005, Soyland Power Cooperative, Inc. (Soyland) tendered for filing a proposed clarification to its formulary rate—Rate Schedule A. Soyland states that Rate Schedule A is the formulary rate under which Soyland recovers the costs associated with its service to its members pursuant to the wholesale power contract that Soyland has with each member. Soyland requests an effective date of June 1, 2005.

Comment Date: 5 p.m. Eastern Time on April 22, 2005.

15. ISO New England Inc.; New England Power Pool Participants Committee

[Docket No. ER05-767-000]

Take notice that on April 1, 2005, ISO New England Inc. (the ISO) and the New England Power Pool (NEPOOL) Participants Committee submitted an application to revise Market Rule 1 to modify the eligibility criteria for offer-based Reference Levels.

The ISO and NEPOOL state that copies of the filing have been served electronically on all NEPOOL Participants, and paper copies have been provided to the Governors and utility regulatory agencies of the New England states.

Comment Date: 5 p.m. Eastern Time on April 22, 2005.

16. Central Maine Power Company

[Docket No. ER05-768-000]

Take notice that on April 1, 2005, Central Maine Power Company (CMP) submitted an executed Large Generator Interconnection Agreement between CMP and Miller Hydro Group, designated as ISO New England, Inc., FERC Electric Tariff No. 3, Service Agreement No. IA-CMP-3. CMP requests an effective date of March 1, 2005.

Comment Date: 5 p.m. Eastern Time on April 22, 2005.

17. Central Maine Power Company

[Docket No. ER05-769-000]

Take notice that on April 1, 2005, Central Maine Power Company (CMP) submitted an unexecuted Small Generator Interconnection Agreement between CMP and the City of Lewiston, Maine, designated as ISO New England, Inc., FERC Electric Tariff No. 3, Service Agreement No. IA-CMP-2. CMP has requested an effective date of March 1, 2005.

Comment Date: 5 p.m. Eastern Time on April 22, 2005.

18. Central Maine Power Company

[Docket No. ER05-770-000]

Take notice that on April 1, 2005, Central Maine Power Company (CMP) submitted an unexecuted Large Generator Interconnection Agreement between CMP and the International Paper Company designated as ISO New England, Inc., FERC Electric Tariff No. 3, Service Agreement No. IA-CMP-1. CMP has requested an effective date of March 1, 2005.

Comment Date: 5 p.m. Eastern Time on April 22, 2005.

19. Cinergy Services, Inc.

[Docket No. ER05-771-000]

Take notice that on April 1, 2005, Cinergy Services, Inc. (Cinergy), acting as agent for and on behalf of The Cincinnati Gas & Electric Company, and Ohio Valley Electric Corporation tendered for filing an amendment to a Facility Agreement by and between The Cincinnati Gas & Electric Company and Ohio Valley Electric Corporation.

Cinergy states that copies of the filing have been served on the Indiana Utility Regulatory Commission, Kentucky Public Service Commission, Public Utilities Commission of Ohio, Midwest Independent Transmission System Operator, Inc., and PJM Interconnection, L.L.C.

Comment Date: 5 p.m. Eastern Time on April 22, 2005.

20. Reliant Energy Aurora, LP

[Docket No. ER05-772-000]

Take notice that on April 1, 2005, Reliant Energy Aurora, LP (Aurora) submitted for filing a notice of cancellation of its FERC Electric Rate Schedule No. 1. Aurora requests an effective date of April 1, 2005.

Comment Date: 5 p.m. Eastern Time on April 22, 2005.

21. Reliant Energy Shelby County, LP

[Docket No. ER05-773-000]

Take notice that on April 1, 2005, Reliant Energy Shelby County, LP (Shelby County) submitted for filing a notice of cancellation of its FERC Electric Rate Schedule No. 1. Shelby County requests an effective date of April 1, 2005.

Comment Date: 5 p.m. Eastern Time on April 22, 2005.

22. Northwest Regional Transmission Association

[Docket No. ER05-774-000]

Take notice that on April 1, 2005, Northwest Regional Transmission Association (NRTA) submitted for filing a notice of termination of NRTA.

Comment Date: 5 p.m. Eastern Time on April 22, 2005.

23. Hawi Renewable Development, LLC

[Docket No. QF05-88-000]

Take notice that on April 1, 2005, Hawi Renewable Development, LLC, 63-655 19th Avenue, P.O. Box 58-1043, North Palm Springs, CA 92258, filed with an application for certification of a facility as a qualifying small power production facility pursuant to 18 CFR 292.207(b) of the Commission's regulations. Applicant seeks Commission certification of a 10.56 MW wind-powered small power production facility (the “Facility”) located near the town of Hawi on the Island of Hawaii in Hawaii. The primary energy source to be used by the Facility is wind. Applicant will interconnect and sell electric energy to Hawaii Electric Light Company, Inc.

Comment Date: 5 p.m. Eastern Time on April 22, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-1754 Filed 4-13-05; 8:45 am]

BILLING CODE 6717-01-P